DEPARTMENT OF COMMERCE

National Oceanic and Atmospheric Administration

RIN 0648-XX37

Endangered and Threatened Species; Notice of Initiation of a 5-Year Review and Notice of Intent To Draft the Recovery Plan for the Distinct Population Segment of North Pacific Ocean Loggerhead Sea Turtle (Caretta caretta)

AGENCY: National Marine Fisheries Service (NMFS), National Oceanic and Atmospheric Administration (NOAA), Commerce, and Fish and Wildlife Service (USFWS), Interior.

ACTION: Notice of initiation of a 5-year review and notice of intent to draft a recovery plan; request for information.

SUMMARY: NMFS and USFWS announce the initiation of a 5-year review for the distinct population segment (DPS) of North Pacific Ocean loggerhead sea turtle (hereafter referred to as `North Pacific loggerhead') and our intent to draft the North Pacific loggerhead recovery plan. A 5-year review is a periodic assessment conducted to ensure that the listed species has the appropriate level of protection under the Endangered Species Act of 1973, as amended (ESA). Recovery plans are guides to rebuild and ensure the long-term viability of protected species in the wild. Each document is based on the best scientific and commercial data available at the time of the review/update. Therefore, we are requesting submission of any information on the status of the North Pacific loggerhead that has become available since the 2011 listing.

DATES: Information related to this notice must be received by close of business on December 12, 2016.

ADDRESSES: Submit your comments identified by NOAA-NMFS-2016-0134, by either of the following methods:

• Federal e-Rulemaking Portal: Go to www.regulations.gov/#!docketDetail;D=[NOAA-NMFS-2016-0134], click the “Comment Now!” icon, complete the required fields and enter or attach your comments.

• Mail: Submit written comments to Alexis Gutierrez, National Marine Fisheries Service, Office of Protected Resources, Marine Mammal and Sea Turtle Conservation Division, 1315 East West Highway, Silver Spring, MD 20910.

Instructions: NMFS, may not consider comments if they are sent by any other method, to any other address or individual, or received after the end of the comment period. All comments received are a part of the public record and NMFS will generally post for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Alexis Gutierrez, Office of Protected Resources, phone, 301-427-8441, email: Alexis.Gutierrez@noaa.gov.

SUPPLEMENTARY INFORMATION:

Background

Loggerhead sea turtles (Caretta caretta) were globally listed as threatened under the ESA (16 U.S.C. 1531 et seq.) in 1978. A Recovery Plan for the U.S. Pacific population of Loggerhead Sea Turtles was published in 1998. In 2007, the 5-year review of the loggerhead sea turtle recommended the application of the DPS policy (61 FR 4722; February 7, 1996). On July 16, 2007, NMFS and USFWS received a petition from the Center for Biological Diversity and Turtle Island Restoration Network requesting that loggerhead turtles in the North Pacific Ocean be reclassified as a DPS with endangered status and that critical habitat be designated. On November 16, 2007, NMFS and USFWS received a petition from the Center for Biological Diversity and Oceana requesting that loggerhead turtles in the Northwest Atlantic Ocean be reclassified as a DPS with endangered status and that critical habitat be designated. NMFS and USFWS determined that the July 16, 2007, North Pacific petition and the November 16, 2007, Northwest Atlantic petition both presented substantial information that the petitioned actions may be warranted. The 2009 Status Review identified nine DPSs. In 2011, we published a final rule (76 FR 58868; September 22, 2011) determining nine DPSs for loggerhead sea turtles.

Upon listing a species, section 4(f)(1) of the ESA requires the preparation and implementation of a recovery plan and revision to those plans as necessary. The plan must contain: (1) Objective, measurable criteria which, when met, would result in a determination that the species is no longer threatened or endangered; (2) site-specific management actions necessary to achieve the plan's goals; and (3) estimates of the time required and costs to implement recovery actions. Recovery plans describe actions beneficial to the conservation and recovery of species listed under the ESA, as amended (16 U.S.C. 1531 et seq.). The ESA requires the development of recovery plans for each listed species unless such a plan would not promote the conservation of the species. This new recovery plan will focus solely on the North Pacific loggerhead DPS.

In addition, the ESA requires that we conduct a review of listed species at least once every five years. This will be the first 5-year review for the North Pacific loggerhead since the 2011 listing as endangered. On the basis of such reviews under section 4(c)(2)(B), we determine whether any species should be removed from the list (i.e., delisted) or reclassified from endangered to threatened or from threatened to endangered (16 U.S.C. 1533(c)(2)(B)). Delisting a species must be supported by the best scientific and commercial data available and only considered if such data substantiate that the species is neither endangered nor threatened for one or more of the following reasons: (1) The species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces our active review of the North Pacific loggerhead currently listed as endangered (76 FR 58868; September 22, 2011), as well as our intent to prepare a recovery plan.

Background information on the North Pacific loggerhead including the endangered listing is available on the NMFS Office of Protected Species Web site at: http://www.nmfs.noaa.gov/pr/species/turtles/loggerhead.html.

Public Solicitation of New Information

To ensure that the 5-year review and recovery plan are complete and based on the best available scientific and commercial information, we are soliciting new information from the public, governmental agencies, Tribes, the scientific community, industry, environmental entities, and any other interested parties concerning the status of the North Pacific loggerhead. The 5-year review and recovery plan will consider the best scientific and commercial data and all new information that has become available since the listing determination. Categories of requested information include: (1) Species biology including, but not limited to, population trends, distribution, abundance, demographics, and genetics; (2) habitat conditions including, but not limited to, amount, distribution, and important features for conservation; (3) status and trends of threats to the species and its habitats; (4) conservation measures that have been implemented that benefit the species, including monitoring data demonstrating effectiveness of such measures; (5) need for additional conservation measures; and (6) other new information, data, or corrections including, but not limited to, taxonomic or nomenclature changes, identification of erroneous information contained in the list of endangered and threatened species, and improved analytical methods for evaluating extinction risk.

If you wish to provide information for this 5-year review and/or the recovery plan, you may submit your information and materials electronically or via mail (see ADDRESSES section). We request that all information be accompanied by supporting documentation such as maps, bibliographic references, or reprints of pertinent publications. We also would appreciate the submitter's name, address, and any association, institution, or business that the person represents; however, anonymous submissions will also be accepted.

Upon completion, the draft recovery plan will be available for public review and comment through the publication of Federal Register notice.

Authority: 16 U.S.C. 1531 et seq.

Dated: October 6, 2016.
Daniel Bess,
Acting Deputy Director, Office of Protected Resources, National Marine Fisheries Service.

[FR Doc. 2016-24676 Filed 10-11-16; 8:45 am]

BILLING CODE 3510-22-P